NATIONAL SCIENCE FOUNDATION

Advisory Committee for Education and Human Resources; Notice of Meeting

In accordance with Federal Advisory Committee Act (Pub. L. 92-463, as amended), the National Science Foundation announces the following meeting:

Name: Advisory Committee for Education and Human Resources (#1119).

Date/Time: November 1, 2006; 8:30 a.m. to 5 p.m.; November 2, 2006; 8:30 a.m. to 12 p.m.

Place: The Westin Arlington Gateway Hotel, Conference Room “D”, Second Floor, 801 North Glebe Road, Arlington, VA 22202.

Type of Meeting: Open.

Contact Person: James Colby, National Science Foundation, 4201 Wilson Boulevard, Arlington, VA 22230, (703) 292-5331. If you are attending the meeting and need access to the NSF, please contact the individual listed above so your name may be added to the building access list.

Purpose of Meeting: To provide advice with respect to the Foundation's education and human resources programming.

Agenda

Wednesday, November 1

Assistant Director's Report.

Critical Junctures in STEM, K-16; Beyond Professional Development—Workforce Productivity Continuum or Sustaining Competitiveness in the Transformation of Undergraduate STEM Education.

COV Reports.

Director of NSF's Office of Cyberinfrastructure (CI).

Thursday, November 2, 2006

Discussion of NSB Commission on K-16 Education for 21st C.

Meet with Director Bement.

Possible items for Spring 2007 Meeting.

Reports on current efforts of Working Group on Broadening Participation and Working Group on Undergraduate Education.

Dated: October 4, 2006.
Susanne Bolton,
Committee Management Officer.

[FR Doc. 06-8577 Filed 10-10-06; 8:45 am]

BILLING CODE 7555-01-M